DEPARTMENT OF THE TREASURY

United States Mint

Pricing for National September 11 Memorial & Museum Commemorative Medal

ACTION: Notice.

SUMMARY: The United States Mint is announcing the price of the National September 11 Memorial & Museum Commemorative Medal. Introductory pricing will be $56.95, and regular pricing, which will go into effect approximately 60 days after the on-sale date, will be $66.95.

FOR FURTHER INFORMATION CONTACT: B. B. Craig, Associate Director for Sales and Marketing; United States Mint; 801 9th Street, NW.; Washington, DC 20220, or call 202-354-7500.

Authority: 31 U.S.C. 5111 & 9701; Public Law 111-221.

Dated: June 15, 2011.
Richard A. Peterson,
Acting Director, United States Mint.

[FR Doc. 2011-15330 Filed 6-20-11; 8:45 am]

BILLING CODE;P